DEPARTMENT OF TRANSPORTATION

Federal Aviation Administration

14 CFR Part 39

[Docket No. FAA-2015-8426; Directorate Identifier 2015-NM-006-AD; Amendment 39-18527; AD 2016-10-16]

RIN 2120-AA64

Airworthiness Directives; Dassault Aviation Airplanes

AGENCY: Federal Aviation Administration (FAA), Department of Transportation (DOT).

ACTION: Final rule.

SUMMARY: We are adopting a new airworthiness directive (AD) for certain Dassault Aviation Model MYSTERE-FALCON 900 airplanes, FALCON 900EX airplanes, and FALCON 2000EX airplanes. This AD was prompted by a report that during a test flight, it was found that the yaw damper on the takeoff roll can increase the Minimum Control Speed on Ground (Vmcg). This AD requires revising the airplane flight manual (AFM) to incorporate procedures for the flightcrew to check that the yaw damper is set to “off” before takeoff. We are issuing this AD to ensure that the flightcrew has procedures to set the yaw damper to “off” before takeoff, which, if activated, could result in reduced control of the airplane if one engine were to fail during takeoff.

DATES: This AD is effective June 27, 2016.

ADDRESSES:

Examining the AD Docket

You may examine the AD docket on the Internet at http://www.regulations.gov by searching for and locating Docket No. FAA-2015-8426; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 by adding an AD that would apply to certain Dassault Aviation Model MYSTERE-FALCON 900 airplanes, FALCON 900EX airplanes, and FALCON 2000EX airplanes. The NPRM published in the Federal Register on January 13, 2016 (81 FR 1580) (“the NPRM”).

The European Aviation Safety Agency (EASA), which is the Technical Agent for the Member States of the European Union, has issued EASA Airworthiness Directive 2015-0005, dated January 14, 2015 (referred to after this as the Mandatory Continuing Airworthiness Information, or “the MCAI”), to correct an unsafe condition for certain Dassault Aviation Model MYSTERE-FALCON 900 airplanes, FALCON 900EX airplanes, and FALCON 2000EX airplanes. The MCAI states:

During a flight test on a development aeroplane, it was found that the yaw damper (YD) working on the take-off roll can increase the Minimum Control Speed on Ground (Vmcg). A review of the certification data of the affected aeroplanes shows that Vmcg values published in the Airplane Flight Manuals (AFM) have been determined without YD.

This condition, if not corrected, could result, in case of an engine failure occurring during the roll acceleration [during takeoff], in reduced lateral control of the aeroplane.

To address this condition, Dassault Aviation developed Change Proposals (CP) and Temporary Changes (TC) to the applicable AFMs, which instruct flight crews to check that yaw damper is set to “off” before take-off.

For the reasons described above, this [EASA] AD requires an amendment of the applicable AFM.

You may examine the MCAI in the AD docket on the Internet at http://www.regulations.gov by searching for and locating Docket No. FAA-2015-8426.

Comments

We gave the public the opportunity to participate in developing this AD. We received no comments on the NPRM or on the determination of the cost to the public.

Conclusion

We reviewed the relevant data and determined that air safety and the public interest require adopting this AD as proposed except for minor editorial changes. We have determined that these minor changes:

• Are consistent with the intent that was proposed in the NPRM for correcting the unsafe condition; and

• Do not add any additional burden upon the public than was already proposed in the NPRM.

Change to Paragraph (g) of This AD

We have revised paragraph (g) of this AD to remove “table 1 to paragraph (g) of this AD” regarding the use of the applicable AFM change. This change is necessary because the AFM materials specified in the proposed AD do not meet the requirements for approval of incorporation by reference by the Office of the Federal Register. Therefore, operators must contact the Manager, International Branch, ANM-116, Transport Airplane Directorate, FAA, for information regarding the use of the applicable AFM change for revising the normal procedures and limitations sections of the AFM, as applicable, to include new yaw damper procedures.

Costs of Compliance

We estimate that this AD affects 284 airplanes of U.S. registry.

We also estimate that it would take about 1 work-hour per product to comply with the basic requirements of this AD. The average labor rate is $85 per work-hour. Based on these figures, we estimate the cost of this AD on U.S. operators to be $24,140, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-10-16 Dassault Aviation: Amendment 39-18527. Docket No. FAA-2015-8426; Directorate Identifier 2015-NM-006-AD.

(a) Effective Date

This AD is effective June 27, 2016.

(b) Affected ADs

None.

(c) Applicability

This AD applies to the airplanes specified in paragraphs (c)(1), (c)(2), and (c)(3) of this AD, certificated in any category.

(1) Dassault Aviation Model MYSTERE-FALCON 900 airplanes, all serial numbers.

(2) Dassault Aviation Model FALCON 900EX airplanes, all serial numbers, except airplanes with “EASy II” “2nd certification” avionics, which are defined as: Airplanes modified in production with Dassault Aviation modification M5595; or airplanes modified in service with Dassault Aviation Service Bulletin F900EX-400 or with Dassault Aviation Service Bulletin F900EX-414, except for airplanes modified in service with any of the service information specified in paragraphs (c)(2)(i) through (c)(2)(vii) of this AD.

(i) Dassault Aviation Service Bulletin F900EX-400, dated July 1, 2011.

(ii) Dassault Aviation Service Bulletin F900EX-400, Revision 1, dated July 5, 2012.

(iii) Dassault Aviation Service Bulletin F900EX-400, Revision 2, dated November 30, 2012.

(iv) Dassault Aviation Service Bulletin F900EX-414, dated July 20, 2011.

(v) Dassault Aviation Service Bulletin F900EX-414, Revision 1, dated July 5, 2012.

(vi) Dassault Aviation Service Bulletin F900EX-414, Revision 2, dated July 27, 2012.

(vii) Dassault Aviation Service Bulletin F900EX-414, Revision 3, dated November 30, 2012.

(3) Dassault Aviation Model FALCON 2000EX airplanes, all serial numbers, except airplanes with Dassault Aviation production modification M3254, or modified in service by Dassault Aviation Service Bulletin F2000EX-300 (“EASy II” avionics).

(d) Subject

Air Transport Association (ATA) of America Code 01, Operations Information.

(e) Reason

This AD was prompted by a report that during a test flight, it was found that the yaw damper on the takeoff roll can increase the Minimum Control Speed on Ground (Vmcg). We are issuing this AD to ensure that the flightcrew has procedures to set the yaw damper to “off” before takeoff, which, if activated, could result in reduced control of the airplane if one engine were to fail during takeoff.

(f) Compliance

Comply with this AD within the compliance times specified, unless already done.

(g) Revision of the Airplane Flight Manual (AFM)

Within 30 days after the effective date of this AD, revise the normal procedures and limitations sections of the AFM, as applicable, to include new yaw damper procedures, in accordance with using a method approved by the Manager, International Branch, ANM-116, Transport Airplane Directorate, FAA.

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Dassault Aviation's EASA Design Organization Approval (DOA). If approved by the DOA, the approval must include the DOA-authorized signature.

(i) Related Information

Refer to Mandatory Continuing Airworthiness Information (MCAI) EASA Airworthiness Directive 2015-0005, dated January 14, 2015, for related information. This MCAI may be found in the AD docket on the Internet at http://www.regulations.gov by searching for and locating Docket No. FAA-2015-8426-0002.

(j) Material Incorporated by Reference

None.

Issued in Renton, Washington, on May 12, 2016.
Suzanne Masterson,
Acting Manager, Transport Airplane Directorate, Aircraft Certification Service.

[FR Doc. 2016-11929 Filed 5-20-16; 8:45 am]

BILLING CODE 4910-13-P